DEPARTMENT OF ENERGY

Federal Energy Regulatory Commission

Combined Notice of Filings #1

Take notice that the Commission received the following electric rate filings:

Docket Numbers: ER25-68-002.

Applicants: PJM Interconnection, L.L.C.

Description: Tariff Amendment: Second Amendment to AF1-208, GIA SA No. 7376 to be effective 9/9/2024.

Filed Date: 1/16/25.

Accession Number: 20250116-5072.

Comment Date: 5 p.m. ET 2/6/25.

Docket Numbers: ER25-796-000.

Applicants: Jackson Fuller Energy Storage, LLC.

Description: Supplement to December 23, 2024, Jackson Fuller Energy Storage, LLC tariff filing.

Filed Date: 1/16/25.

Accession Number: 20250116-5195.

Comment Date: 5 p.m. ET 1/27/25.

Docket Numbers: ER25-946-000

Applicants: PJM Interconnection, L.L.C.

Description: 205(d) Rate Filing: Amendment to ISA, Service Agreement No. 7049; Queue No. AE1-163/AE2-281 to be effective 3/18/2025.

Filed Date: 1/16/25.

Accession Number: 20250116-5054.

Comment Date: 5 p.m. ET 2/6/25.

Docket Numbers: ER25-947-000.

Applicants: PJM Interconnection, L.L.C.

Description: 205(d) Rate Filing: Original GIA Service Agreement No. 7460; Project Identifier No AG1-482 to be effective 12/17/2024.

Filed Date: 1/16/25.

Accession Number: 20250116-5056.

Comment Date: 5 p.m. ET 2/6/25.

Docket Numbers: ER25-948-000.

Applicants: ALLETE, Inc.

Description: 205(d) Rate Filing: 2025-01-16_ALLETE Request for Transmission Rate Incentives to be effective 3/18/2025.

Filed Date: 1/16/25.

Accession Number: 20250116-5066.

Comment Date: 5 p.m. ET 2/6/25.

Docket Numbers: ER25-949-000.

Applicants: PJM Interconnection, L.L.C.

Description: 205(d) Rate Filing: Amendment to ISA, Service Agreement No. 7079; Queue No. AE1-106 to be effective 3/18/2025.

Filed Date: 1/16/25.

Accession Number: 20250116-5076.

Comment Date: 5 p.m. ET 2/6/25.

Docket Numbers: ER25-950-000.

Applicants: Ellwood Power, LLC.

Description: 205(d) Rate Filing: Market-Based Tariff Update to be effective 3/17/2025.

Filed Date: 1/16/25.

Accession Number: 20250116-5088.

Comment Date: 5 p.m. ET 2/6/25.

Docket Numbers: ER25-951-000.

Applicants: PacifiCorp.

Description: 205(d) Rate Filing: Revisions to the PacifiCorp OATT to Implement the Extended Day-Ahead Market to be effective 5/16/2025.

Filed Date: 1/16/25.

Accession Number: 20250116-5113.

Comment Date: 5 p.m. ET 2/18/25.

Docket Numbers: ER25-952-000.

Applicants: PJM Interconnection, L.L.C.

Description: 205(d) Rate Filing: Original GIA, Service Agreement No. 7465; AG1-054 to be effective 12/17/2025.

Filed Date: 1/16/25.

Accession Number: 20250116-5136.

Comment Date: 5 p.m. ET 2/6/25.

Docket Numbers: ER25-953-000.

Applicants: Zephyr Wind, LLC.

Description: 205(d) Rate Filing: Zephyr Wind, LLC Change in Status to be effective 1/17/2025.

Filed Date: 1/16/25.

Accession Number: 20250116-5139.

Comment Date: 5 p.m. ET 2/6/25.

Docket Numbers: ER25-954-000.

Applicants: Elk Wind Energy LLC.

Description: 205(d) Rate Filing: Elk Wind Energy LLC Change in Status to be effective 1/17/2025.

Filed Date: 1/16/25.

Accession Number: 20250116-5142.

Comment Date: 5 p.m. ET 2/6/25.

Docket Numbers: ER25-955-000.

Applicants: Rippey Wind Energy LLC.

Description: 205(d) Rate Filing: Rippey Wind Energy LLC Change in Status to be effective 1/17/2025.

Filed Date: 1/16/25.

Accession Number: 20250116-5143.

Comment Date: 5 p.m. ET 2/6/25.

Docket Numbers: ER25-956-000.

Applicants: Bethel Wind Energy LLC.

Description: 205(d) Rate Filing: Bethel Wind Energy LLC Change in Status to be effective 1/17/2025.

Filed Date: 1/16/25.

Accession Number: 20250116-5144.

Comment Date: 5 p.m. ET 2/6/25.

Docket Numbers: ER25-957-000.

Applicants: Ridgewind Power Partners, LLC.

Description: 205(d) Rate Filing: Ridgewind Power Partners, LLC Change in Status to be effective 1/17/2025.

Filed Date: 1/16/25.

Accession Number: 20250116-5145.

Comment Date: 5 p.m. ET 2/6/25.

Docket Numbers: ER25-958-000.

Applicants: PJM Interconnection, L.L.C.

Description: 205(d) Rate Filing: Original CSA, Service Agreement No. 7466; AG1-054 to be effective 12/17/2024.

Filed Date: 1/16/25.

Accession Number: 20250116-5160.

Comment Date: 5 p.m. ET 2/6/25.

Docket Numbers: ER25-959-000.

Applicants: PJM Interconnection, L.L.C.

Description: Tariff Amendment: Notice of Cancellation of IISA, SA No. 6252; AF1-063/AF2-127 re: withdrawal to be effective 3/15/2025.

Filed Date: 1/16/25.

Accession Number: 20250116-5176.

Comment Date: 5 p.m. ET 2/6/25.

Docket Numbers: ER25-960-000.

Applicants: RE Papago PV LLC.

Description: Initial Rate Filing: Application for Market Based Rate to be effective 10/1/2025.

Filed Date: 1/16/25.

Accession Number: 20250116-5191.

Comment Date: 5 p.m. ET 2/6/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: January 16, 2025.
Carlos D. Clay,
Deputy Secretary.

[FR Doc. 2025-01926 Filed 1-29-25; 8:45 am]

BILLING CODE 6717-01-P